COMMITTEE FOR PURCHASE FROM PEOPLE WHO ARE BLIND OR SEVERELY DISABLED

Procurement List; Proposed Additions and Deletion

AGENCY: Committee for Purchase From People Who Are Blind or Severely Disabled.

ACTION: Proposed additions to and deletion from Procurement List.

SUMMARY: The Committee is proposing to add to the Procurement List commodities and services to be furnished by nonprofit agencies employing persons who are blind or have other severe disabilities, and to delete commodity previously furnished by such agencies.

COMMENTS MUST BE RECEIVED ON OR BEFORE: August 13, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, the entities of the Federal Government identified in this notice for each the commodities or services will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services are proposed for addition to Procurement List for production by the nonprofit agencies listed:

Commodities

Mop, Flat, w/Scrubber

M.R. 1045

NPA: Arizona Industries for the Blind, Phoenix, Arizona

Government Agency: Defense Commissary Agency

Mop, Twist-N-Lock,

M.R. 1040

NPA: LCI/Signature Works, Inc., Hazlehurst, Mississippi

Government Agency: Defense Commissary Agency

Services

Grounds Maintenance

Illinois Air National Guard, 126th ARW, Scott Air Force Base, Illinois

NPA: Challenge Unlimited, Inc., Alton, Illinois

Government Agency: Illinois Air National Guard

Janitorial/Custodial

Minnesota Valley National Wildlife Refuge Visitors Center, Bloomington, Minnesota

NPA: AccessAbility, Inc., Minneapolis, Minnesota

Government Agency: U.S. Fish and Wildlife Service

Mailing Services

Department of Energy, Argonne National Laboratory, Argonne, Illinois

NPA: Jewish Vocational Service & Employment Center, Chicago, Illinois

Government Agency: Department of Energy

Photocopying

Environmental Protection Agency, Research Triangle Park, North Carolina

NPA: Winston-Salem Industries for the Blind, Winston-Salem, North Carolina

Government Agency: Environmental Protection Agency

Deletion

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following commodity is proposed for deletion from the Procurement List:

Commodity

Buckle, Belt

8315-00-664-9126

Louis R. Bartalot,
Director, Program Analysis and Evaluation.

[FR Doc. 01-17608 Filed 7-12-01; 8:45 am]

BILLING CODE 6353-01-P